DEPARTMENT OF ENERGY

Federal Energy Regulatory Commission

[Docket No. RP04-91-004]

Questar Pipeline Company; Notice of Revenue Credit Report

January 5, 2005.

Take notice that on December 27, 2004, Questar Pipeline Company (Questar) tendered for filing a liquids revenue crediting report. Questar states that the report documents the revenues and costs pertaining to the Kastler Plant for the time period August 2001 through October 31 2004.

Questar states that it is filing the report pursuant to a November 26, 2004 Commission order following technical conference and on rehearing. Questar explains that the Order requires Questar to provide an accounting of all revenues received from the sale of liquids at the Kastler Plant, and to credit these past revenues to transmission customers within 30 days of the Commission Order.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on January 13, 2005.

Magalie R. Salas,
Secretary.

[FR Doc. E5-105 Filed 1-11-05; 8:45 am]

BILLING CODE 6717-01-P